DEPARTMENT OF VETERANS AFFAIRS

[OMB Control No. 2900-New (10-21085a-e)]

Proposed Information Collection (Prevalence and Clinical Course of Depression Among Patients With Heart Failure); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to identify the patterns of depression in heart failure patients.

DATES: Written comments and recommendations on the proposed collection of information should be received on or before June 27, 2008.

ADDRESSES: Submit written comments on the collection of information through http://www.Regulations.gov; or to Mary Stout, Veterans Health Administration (193E1), Department of Veterans Affairs, 810 Vermont Avenue, NW., Washington, DC 20420; or e-mail: mary.stout@va.gov. Please refer to “OMB Control No. 2900-New (10-21085a-e)” in any correspondence. During the comment period, comments may be viewed online through the Federal Docket Management System (FDMS) at http://www.Regulations.gov.

FOR FURTHER INFORMATION CONTACT: Mary Stout (202) 461-5867 or FAX (202) 273-9381.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Prevalence and Clinical Course of Depression Among Patients with Heart Failure, VA HSR&D, Nursing Research Initiative No. 05-209-3, VA Form 10-21085a-e(NR).

OMB Control Number: 2900-New (10-21085a-e).

Type of Review: New collection.

Abstract: The forms will be used to evaluate the prevalence of clinical depression and depressive symptoms among veterans with heart failure during periods of hospitalization and out patient care. The data will be used to identify the patterns of depression and to understand the temporal relationship between clinical depression, alterations in physical functions, and levels of circulating biochemical markers in heart failure patients.

Affected Public: Individuals or households.

Estimated Annual Burden: 1,362.

Estimated Average Burden Per Respondent: 22 minutes.

Frequency of Response: On occasion.

Estimated Number of Respondents: 3,706.

Dated: April 21, 2008.
By direction of the Secretary.
Denise McLamb,
Program Analyst, Records Management Service.

[FR Doc. E8-9167 Filed 4-25-08; 8:45 am]

BILLING CODE 8320-01-P